DEPARTMENT OF AGRICULTURE

Notice of Request for Approval of an Information Collection

AGENCY: Office of Advocacy and Outreach, Department of Agriculture.

ACTION: Notice and request for comments.

SUMMARY: This notice announces the intent, in accordance with the Paperwork Reduction Act of 1995, of the Office of Advocacy and Outreach (OAO) to request an extension/revision of a currently approved information collection to the Minority Farm Register. The Minority Farm Register is a voluntary register of minority farm and ranch operators, landowners, tenants, and others with an interest in farming or agriculture. The OAO uses the collected information to better inform minority farmers about U.S. Department of Agriculture (USDA) programs and services.

DATES: We will consider comments received by October 17, 2016, at 5:00 p.m. EST.

ADDRESSES: We invite you to submit comments on this notice. In your comments, include date, volume, and page number of this issue of the Federal Register. You may submit comments by any of the following methods: (1) Federal eRulemaking Portal: Go to http://regulations.gov and follow the online instructions for submitting comments; (2) Mail: U.S. Department of Agriculture, Office of Advocacy and Outreach, Attn: Kenya Nicholas, Program Director, Whitten Building Room 520-A, Mail Stop 0601, 1400 Independence Avenue SW., Washington, DC 20250; and (3) Fax: (202) 720-7704.

How to File a Complaint of Discrimination: To file a complaint of discrimination, complete the USDA Program Discrimination Complaint Form, which may be accessed online at: http://www.ocio.usda.gov/sites/default/files/docs/2012/Complain_combined_6_8_12.pdf, or write a letter signed by you or your authorized representative. Send your completed complaint form or letter to USDA by mail, fax, or email:

Mail: U.S. Department of Agriculture, Director, Office of Adjudication, 1400 Independence Avenue SW., Washington, DC 20250-9410.

Fax: (202) 690-7442.

Email: program.intake@usda.gov.

FOR FURTHER INFORMATION CONTACT:

Agency Contact: U.S. Department of Agriculture, Office of Advocacy and Outreach, Attention: Kenya Nicholas, Program Director, Whitten Building Room 520-A, Mail Stop 0601, 1400 Independence Avenue SW., Washington, DC 20250, Phone: (202) 720-6350, Fax: (202) 720-7704, Email: kenya.nicholas@osec.usda.gov.

Persons with Disabilities: Persons who require alternative means for communication (Braille, large print, audiotape, etc.), should contact USDA's TARGET Center at (202) 720-2600 (voice and TDD).

SUPPLEMENTARY INFORMATION:

Title: USDA Minority Farm Register.

Office of Management and Budget (OMB) Number: 0560-0231.

Expiration Date: October 31, 2016.

Type of Request: Extension/Revision.

Abstract: The Minority Farm Register is a voluntary register of minority farm and ranch operators, landowners, tenants, and others with an interest in farming or agriculture. The registrant's name, address, email, phone number, race, ethnicity, gender, farm location, and signature will be collected; however, the registrant's name, address, and signature are the only items required to register. Providing this information is completely voluntary. USDA's OAO will use this information to help inform minority farmers and ranchers about programs and services provided by USDA agencies. The Minority Farm Register is maintained by OAO. Because USDA partners with community-based organizations, minority-serving educational institutions, and other groups to communicate USDA's programs and services, the OAO may share information collected with these organizations for outreach purposes. The race, ethnicity, and gender of registrants may be used to provide information about programs and services that are designed for these particular groups. Information about the Minority Farm Register is available on the Internet to ensure that the program is widely publicized and accessible to all.

Respondents: Individuals and households.

Estimated Number of Respondents: 5000.

Estimated Average Number of Responses per Respondent: 1.

Estimated Total Annual Number of Responses: 5000.

Estimated average time to respond: 5 minutes (0.083 hours) and 1 hour traveling time. Estimated Total Annual Burden on all Respondents: 4667 hours.

We are requesting comments on all aspects of this information collection to help us to: (1) Evaluate whether the collection of information is necessary for the proper performance of the functions of OAO, including whether the information will have practical utility; (2) Evaluate the accuracy of OAO's estimate of burden including the validity of the methodology and assumptions used; (3) Enhance the quality, utility, and clarity of the information to be collected; (4) Minimize the burden of the collection of information on those who are to respond, including through the use of appropriate automated, electronic, mechanical, or other technological collection techniques or other forms of information technology. All responses to this notice, including name and addresses when provided, will be summarized and included in the request for OMB approval. All comments will also become a matter of public record.

Signed this 8th day of August, 2016.
Carolyn C. Parker,
Director, Office of Advocacy and Outreach.

[FR Doc. 2016-19532 Filed 8-15-16; 8:45 am]

BILLING CODE P